DEPARTMENT OF COMMERCE

International Trade Administration

Initiation of Antidumping and Countervailing Duty Administrative Reviews

AGENCY: Enforcement and Compliance, International Trade Administration, Department of Commerce.

SUMMARY: The Department of Commerce (the Department) has received requests to conduct administrative reviews of various antidumping and countervailing duty orders and findings with August anniversary dates. In accordance with the Department's regulations, we are initiating those administrative reviews.

DATES: Applicable October 16, 2017.

FOR FURTHER INFORMATION CONTACT: Brenda E. Waters, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with August anniversary dates.

All deadlines for the submission of various types of information, certifications, or comments or actions by the Department discussed below refer to the number of calendar days from the applicable starting time.

Notice of No Sales

If a producer or exporter named in this notice of initiation had no exports, sales, or entries during the period of review (POR), it must notify the Department within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise. In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than August 31, 2018.

| Period to be reviewed
Antidumping Duty Proceedings
India:
Corrosion-Resistant Steel Products ⁴A-533-863 | 1/4/16-6/30/17
Atlantis International Services Company Ltd
JSW Coated Products Limited
JSW Steel Ltd
Uttam Galva Steels (BVI) Limited
Uttam Galva Steels Limited
Uttam Galva Steels, Netherlands, B.V
Uttam Value Steels Limited
Malaysia:
Polyethylene Retail Carrier Bags A-557-813 | 8/1/16-7/31/17
Euro SME Sdn Bhd
Mexico:
Light-Walled Rectangular Pipe and Tube A-201-836 | 8/1/16-7/31/17
Maquilacero S.A. de C.V
Perfiles y Herrajes LM, S.A. de C.V
Productos Laminados de Monterrey S.A. de C.V
Regiomontana de Perfiles y Tubos S.A. de C.V
Republic of Korea:
Large Power Transformers A-580-867 | 8/1/16-7/31/17
Hyundai Electric & Energy Systems Co., Ltd
Hyundai Heavy Industries Co., Ltd
ILJIN
IIjin Electric Co., Ltd
LSIS Co., Ltd
Hyosung Corporation
Socialist Republic of Vietnam:
Certain Frozen Fish Fillets A-552-801 | 8/1/16-7/31/17
An Giang Agriculture and Foods Import-Export Joint Stock Company (also known as Afiex, An Giang Agriculture and Foods Import-Export Joint Stock Company, An Giang Agriculture and Food Import-Export Company, or An Giang Agriculture and Foods Import and Export Company)
An Giang Fisheries Import and Export Joint Stock Company (also known as Agifish or AnGiang Fisheries Import and Export)
An My Fish Joint Stock Company (also known as Anmyfish or Anmyfishco)
An Phat Import-Export Seafood Co. Ltd. (also known as An Phat Seafood Co. Ltd.)
An Phu Seafood Corporation (also known as ASEAFOOD or An Phu Seafood Corp.)
Anvifish Joint Stock Company (also known as Anvifish or Anvifish Co., Ltd.)
Asia Commerce Fisheries Joint Stock Company (also known as Acomfish JSC or Acomfish)
Asia Pangasius Company Limited (also known as ASIA)
Basa Joint Stock Company (BASACO)
Ben Tre Aquaproduct Import and Export Joint Stock Company (also known as Bentre Aquaproduct or Aquatex Bentre)
Bentre Forestry and Aquaproduct Import-Export Joint Stock Company (also known as Bentre Forestry and Aquaproduct Import and Export Joint Stock Company or Ben Tre Forestry and Aquaproduct Import-Export Company or Ben Tre Forestry Aquaproduct Import-Export Company or Ben Tre Frozen Aquaproduct Export Company or Faquimex)
Bien Dong Seafood Company Ltd. (also known as Bien Dong, Bien Dong Seafood, Bien Dong Seafood Co., Ltd., or Biendong Seafood Limited Liabilty Company)
Binh An Seafood Joint Stock Company (also known as Binh An or Binh An Seafood Joint Stock Co.)
Binh Dinh Import Export Company (also known as Binh Dinh)
Cadovimex II Seafood Import-Export and Processing Joint Stock Company (also known as Cadovimex II or Cadovimex II Seafood Import-Export)
Cafatex Corporation (also known as Cafatex)
Can Tho Animal Fishery Products Processing Export Enterprise (also known as Cafatex)
Cantho Import-Export Seafood Joint Stock Company (also known as CASEAMEX, Can Tho Import-Export Seafood Joint Stock Company, Cantho Import-Export Joint Stock Company, or Can Tho Import-Export Joint Stock Company)
C.P. Vietnam Corporation
Cuu Long Fish Import-Export Corporation (also known as CL Panga Fish)
Cuu Long Fish Joint Stock Company (also known as CL-Fish or CL-Fish Corp.)
Da Nang Seaproducts Import-Export Corporation (also known as Da Nang or Da Nang Seaproducts Import/Export Corp.)
Dai Thanh Seafoods Company Limited (also known as DATHACO or Dai Thanh Seafoods or Dai Thanh Seafoods Co., Ltd.)
East Sea Seafoods LLC (also known as ESS LLC, ESS, ESS JVC, East Sea Seafoods Limited Liabiltiy Company, East Sea Seafoods Joint Venture Co., Ltd.)
Europe Joint Stock Company (also known as Europe JSC)
Fatifish Company Limited (also known as FATIFISH or FATIFISHCO)
Go Dang An Hiep One Member Limited Company
Go Dang Ben Tre One Member Limited Liability Company
GODACO Seafood Joint Stock Company (also known as GODACO or GODACO Seafood J.S.C. or GODACO Seafood)
Golden Quality Seafood Corporation (also known Golden Quality, GoldenQuality, or GoldenQuality Seafood Corporation)
Green Farms Seafood Joint Stock Company (also know as Green Farms, GreenFarm SeaFoods Joint Stock Company or Green Farms Seafoods Joint Stock Company or Green Farms Seafood JSC)
Hai Huong Seafood Joint Stock Company (also known as HHFish, HH Fish, or Hai Houng Seafood)
Hiep Thanh Seafood Joint Stock Company (also known as Hiep Thanh or Hiep Thanh Seafood Joint Stock Co.)
Hoa Phat Seafood Import-Export and Processing J.S.C. (also known as HOPAFISH or Hoa Phat Seafood Import-Export and Processing Joint Stock Company)
Hoang Long Seafood Processing Company Limited (also known as HLS, Hoang Long Seafood, or Hoang Long Seafood Processing Co.,Ltd.)
Hung Vuong—Mien Tay Aquaculture Corporation
Hung Vuong—Sa Dec Co., Ltd
Hung Vuong—Vinh Long Co., Ltd
Hung Vuong Ben Tre Seafood Processing Company Limited (also known as HVBT Seafood Processing)
Hung Vuong Corporation
Hung Vuong Joint Stock Company
Hung Vuong Mascato Company Limited
Hung Vuong Seafood Joint Stock Company
International Development & Investment Corporation (also known as IDI)
Lian Heng Investment Co., Ltd. (also known as Lien Heng Investment or Lian Heng)
Lian Heng Trading Co., Ltd. (also known as Lian Heng or Lian Heng Trading)
Nam Phuong Seafood Co., Ltd. (also known as Nam Phuong or NAFISHCO or Nam Phuong Seafood or Nam PhuongSeafood Company Ltd.)
Nam Viet Corporation (also known as NAVICO)
Ngoc Ha Co., Ltd. Food Processing and Trading (also known as Ngoc Ha or Ngoc Ha Co., Ltd. Foods Processing and Trading)
Nha Trang Seafoods, Inc. (also known as Nha Trang Seafoods-F89, Nha Trang Seafoods, or Nha Trang Seaproduct Company)
NTACO Corporation (also known as NTACO or NTACO Corp.)
NTSF Seafoods Joint Stock Company (also known as NTSF or NTSF Seafoods)
Quang Minh Seafood Company Limited (also known as Quang Minh, Quang Minh Seafood Co., Ltd., or Quang Minh Seafood Co.)
QVD Dong Thap Food Co., Ltd. (also known as Dong Thap or QVD DT)
QVD Food Company, Ltd. (also known as QVD or QVD Aqucuture)
Saigon-Mekong Fishery Co., Ltd. (also known as SAMEFICO or Saigon Mekong Fishery Co., Ltd.)
Seafood Joint Stock Company No. 4 Branch Dongtam Fisheries Processing Company (also known as DOTASEAFOODCO or Seafood Joint Stock Company No. 4-Branch Dong Tam Fisheries Processing Company)
Southern Fishery Industries Company, Ltd. (also known as South Vina, South Vina Co., Ltd., or Southern Fisheries Industries Company, Ltd.)
Sunrise Corporation
TG Fishery Holdings Corporation (also known as TG)
Thanh Hung Co., Ltd. (also known as Thanh Hung Frozen Seafood Processing Import Export Co., Ltd. or Thanh Hung)
Thien Ma Seafood Co., Ltd. (also known as THIMACO or Thien Ma or Thien Ma Seafood Company, Ltd. or Thien Ma Seafoods Co., Ltd.)
Thuan An Production Trading and Service Co., Ltd. (also known as TAFISHCO, Thuan An Production Trading and Services Co., Ltd., or Thuan An Production & Trading Service Co., Ltd.)
Thuan Hung Co., Ltd. (also known as THUFICO)
To Chau Joint Stock Company (also known as TOCHAU)
Van Duc Food Export Joint Stock Company
Van Duc Tien Giang Food Export Company
Viet Hai Seafood Company Limited (also known as Viet Hai or Vietnam Fish-One Co., Ltd. or Viet Hai Seafood Co. or Fish One)
Viet Phu Foods and Fish Corporation (also known as Vietphu, Viet Phu, Viet Phu Food and Fish Corporation, or Viet Phu Food & Fish Corporation)
Viet Phu Foods & Fish Co., Ltd
Vinh Hoan Corporation (also known as Vinh Hoan or Ving Hoan Co.)
Vinh Long Import-Export Company (also known as Vinh Long or Imex Cuu Long or Vinh Long Import/Export Company)
Vinh Quang Fisheries Corporation (also known as Vinh Quang, Vinh Quang Fisheries Joint Stock Company, or Vinh Quang Fisheries Co.,Ltd.)
Socialist Republic of Vietnam:
Welded Stainless Pressure Pipe ⁵ A-552-816 | 7/1/16-6/30/17
Taiwan:
Certain Steel Nails ⁶ A-583-854 | 7/1/16-6/30/17
Basso Industry Corporation
The People's Republic of China:
Certain Passenger Vehicle and Light Truck Tires A-570-016 | 8/1/16-7/31/17
Actyon Tyre Resources Co., Limited
BC Tyre Group Limited
Best Choice International Trade Co., Limited
Chen Shin Tire & Rubber (China) Co., Ltd
Cooper (Kunshan) Tire Co., Ltd
Crown International Corporation
Dynamic Tire Corp
Federal Tire (Jiangxi), Ltd
Hangzhou Yokohama Tire Co., Ltd
Hankook Tire China Co., Ltd
Hebei Tianrui Rubber Co., Ltd
Highpoint Trading, Ltd
Hong Kong Tiancheng Investment & Trading Co., Limited
Hong Kong Tri-Ace Tire Co., Limited
Hongtyre Goup Co
Husky Tire Corp
Hwa Fong Rubber (Hong Kong) Ltd
Hwa Fong Rubber (Suzhou) Ltd
Jiangsu Hankook Tire Co., Ltd
Kenda Rubber (China) Co., Ltd
Koryo International Industrial Limited
Kumho Tire Co., Inc
Mayrun Tyre (Hong Kong) Limited
Qingdao Fullrun Tyre Corp. Ltd
Qingdao Fullrun Tyre Tech Corp. Ltd
Qingdao Nama Industrial Co., Ltd
Qingdao Nexen Tire Corporation
Qingdao Odyking Tyre Co., Ltd
Qingdao Qianzhen Tyre Co., Ltd
Qingdao Qihang Tyre Co., Ltd
Qingdao Qizhou Rubber Co., Ltd
Qingdao Sentury Tire Co., Ltd
Sailun Jinyu Group (Hong Kong) Co., Limited
Sailun Jinyu Group Co., Ltd
Sailun Tire International Corp
Seatex International Inc
Seatex PTE. Ltd
Shandgong Hongsheng Rubber Co. Ltd
Shandong Anchi Tyres Co., Ltd
Shandong Changfeng Tyres Co., Ltd
Shandong Duratti Rubber Corporation Co. Ltd
Shandong Guofeng Rubber Plastics
Shandong Guofeng Rubber Plastics Co., Ltd
Shandong Haohua Tire Co., Ltd
Shandong Haolang Rubber Tire Co., Ltd
Shandong Haolong Rubber Co., Ltd
Shandong Hengyu Science & Technology Co., Ltd
Shandong Jinyu Industrial Co., Ltd
Shandong Linglong Tyre Co., Ltd
Shandong Longyue Rubber Co., Ltd
Shandong New Continent Tire Co., Ltd
Shandong Province Sanli Tire
Shandong Province Sanli Tire Manufactured Co., Ltd
Shandong Shuangwang Rubber Co., Ltd
Shandong Wanda Boto Tyre Co., Ltd
Shandong Yongsheng Rubber Group Co., Ltd
Shandong Zhongyi Rubber Co., Ltd
Shengtai Group Co., Ltd
Shifeng Juxing Tire Co., Ltd
Shouguang Firemax Tyre Co., Ltd
Southeast Mariner International Co., Ltd
The Yokohama Rubber Company, Ltd
Toyo Tire (Zhangjiagang) Co., Ltd
Tyrechamp Group Co., Limited
Winrun Tyre Co., Ltd
Zhaoqing Junhong Co., Ltd
The People's Republic of China:
Hydroflurocarbon Blends and Components Thereof A-570-028 | 2/1/16-7/31/17
Arkema Daikin Advanced Fluorochemicals (Changsu) Co., Ltd
Daikin Fluorochemicals (China) Co., Ltd
Dongyang Weihua Refrigerants Co., Ltd
Jinhua Yonghe Fluorochemical Co., Ltd
Shandong Huaan New Material Co., Ltd
Sinochem Environmental Protection Chemicals (Taicang) Co., Ltd
T.T. International Co., Ltd
Weitron International Refrigeration Equipment (Kunshan) Co., Ltd
Zhejiang Lantian Environmental Protection Fluoro Material Co. Ltd
Zhejiang Quzhou Lianzhou Refrigerants Co., Ltd
Zhejiang Sanmei Chemical Industry Co. Ltd. (AKA Zhejiang Sanmei Chemical Ind. Co. Ltd.)
Zhejiang Yonghe Refrigerant Co., Ltd
The People's Republic of China:
Certain Steel Nails A-570-909 | 8/1/16-7/31/17
Air It on Inc
A-Jax Enterprises Ltd
A-Jax International Co. Ltd
Anhui Amigo Imp.& Exp. Co. Ltd
Anhui Tea Imp. & Exp. Co. Ltd
Anjing Caiquing Hardware Co., Ltd
Astrotech Steels Pvt. Ltd
Beijing Catic Industry Ltd
Beijing Qin-Li Jeff Trading Co., Ltd
Bodi Corporation
Cana (Rizhou) Hardward Co. Ltd
Cangzhou Xinqiao Int'l Trade Co. Ltd
Certified Products Taiwan Inc
Changzhou Kya Trading Co. Ltd
Chia Pao Metal Co. Ltd
China Dinghao Co. Ltd
China Staple Enterprise Co. Ltd
Chinapack Ningbo Imp. & Exp. Co. Ltd
Chite Enterprise Co. Ltd
Crelux Int'l Co. Ltd
Daejin Steel Co. Ltd
Dezhou Hualude Hardware Products Co. Ltd
Dingzhou Baota Metal Products Co. Ltd
Dong E Fuqiang Metal Products Co. Ltd
Ejen Brother Limited
Faithful Engineering Products Co. Ltd
Fastening Care
Fastgrow International Co. Inc
Foshan Hosontool Development Hardware Co. Ltd
Glori-Industry Hong Kong Inc
Guangdong Meite Mechanical Co. Ltd
Hangzhou Spring Washer Co. Ltd
Hebei Canzhou New Century Foreign Trade Co. Ltd
Hongyi (HK) Hardware Products Co. Ltd
Huaiyang County Yinfeng Plastic Factory
Huanghua Yingjin Hardware Products
Inmax Industries Sdn. Bhd
Jade Shuttle Enterprise Co. Ltd
Jiangsu General Science Technology Co. Ltd
Jiangsu Huaiyin Guex Tools
Jiaxing TSR Hardware Inc
Jinhai Hardware Co. Ltd
Jinsco International Corp
Jinsheung Steel Corporation
Koram Inc
Korea Wire Co. Ltd
Liaocheng Minghui Hardware Products
Maanshan Lilai International Trade. Co. Ltd
Mingguang Abundant Hardware Products Co. Ltd
Mingguang Ruifeng Hardware Products Co. Ltd
Nailtech Co. Ltd
Nanjing Caiquing Hardware Co. Ltd
Nanjing Nuochun Hardware Co. Ltd
Nanjing Tianxingtong Electronic Technology Co. Ltd
Nanjing Tianyu International Co. Ltd
Nanjing Zeejoe International Trade
Ningbo Adv. Tools Co. Ltd
Ningbo Fine Hardware Production Co. Ltd
Overseas Distribution Services Inc
Overseas International Steel Industry
Paslode Fasteners Co. Ltd
Patek Tool Co. Ltd
President Industrial Inc
Promising Way (Hong Kong) Ltd
Qingda Jisco Co. Ltd
Qingdao D&L Hardware Co. Ltd
Qingdao Gold Dragon Co. Ltd
Qingdao Hongyuan Nail Industry Co. Ltd
Qingdao Meijialucky Industry and Co
Qingdao MST Industry and Commerce Co. Ltd
Qingdao Top Steel Industrial Co. Ltd
Qingdao Uni-Trend International
Quzhou Monsoon Hardware Co. Ltd
Region Industries Co. Ltd
Region System Sdn. Bhd
Rise Time Industrial Ltd
Romp Coil Nail Industries Inc
R-Time Group Inc
SDC International Australia Pty. Ltd
Shandong Liaocheng Minghua Metal Pvt. Ltd
Shandong Oriental Cherry Hardware Group Co. Ltd
Shandong Oriental Cherry Hardware Import & Export Co. Ltd
Shandong Qingyun Hongyi Hardware Co. Ltd
Shanghai Curvet Hardware Products Co. Ltd
Shanghai Haoray International Trade Co. Ltd
Shanghai Jade Shuttle Hardware Tools Co. Ltd
Shanghai Pioneer Speakers Co. Ltd
Shanghai Seti Enterprise Int'l Co. Ltd
Shanghai Yueda Nails Co. Ltd
Shanxi Easyfix Trade Co. Ltd
Shanxi Hairut Trade Co. Ltd
Shanxi Pioneer Hardware Industrial Co. Ltd
Shanxi Tianli Industries Co. Ltd
Shaoxing Chengye Metal Producing Co. Ltd
Shenzhen Xinjintal Hardware Co. Ltd
S-Mart (Tianjin) Technology Development Co. Ltd
Stanley Black & Decker Inc
Suntec Industries Co. Ltd
Suzhou Xingya Nail Co. Ltd
Taizhou Dajiang Ind. Co. Ltd
The Stanley Works (Langfang) Fastening Systems Co.,Ltd
Theps International
Tianji Hweschun Fasteners Manufacturing Co. Ltd
Tianjin Baisheng Metal Products Co. Ltd
Tianjin Bluekin Indusries Ltd
Tianjin Coways Metal Products Co. Ltd
Tianjin Dagang Jingang Nail Factory
Tianjin Evangel Imp. & Exp. Co. Ltd
Tianjin Fulida Supply Co. Ltd
Tianjin Huixingshangmao Co. Ltd
Tianjin Jin Xin Sheng Long Metal Products Co. Ltd
Tianjin Jinchi Metal Products Co. Ltd
Tianjin Jinghai County Hongli Industry and Business Co. Ltd
Tianjin Jinghai Yicheng Metal Pvt
Tianjin Jinlin Pharmaceutical Factory
Tianjin Jinmao Imp. & Exp. Corp. Ltd
Tianjin Lianda Group Co. Ltd
Tianjin Tianhua Environmental Plastics Co. Ltd
Tianjin Universal Machinery Imp. & Exp
Tianjin Yong Sheng Towel Mill
Tianjin Yongye Furniture Co. Ltd
Tianjin Zhonglian Metals Ware Co. Ltd
Tianjin Zhonglian Times Technology
Tianjin Zhongsheng Garment Co. Ltd
Unicore Tianjin Fasteners Co. Ltd
Win Fasteners Manufactory (Thailand) Co. Ltd
Wulian Zhanpeng Metals Co. Ltd
Xi'An Metals and Minerals Imp. & Exp. Co. Ltd
Yongchang Metal Product Co
Yuyao Dingfeng Engineering Co. Ltd
Zhangjiagang Lianfeng Metals Products Co. Ltd
Zhangjiagang Longxiang Industries Co. Ltd
Zhaoqing Harvest Nails Co. Ltd
Zhejiang Best Nail Industry Co. Ltd
Zhejiang Jihengkang (JHK) Door Ind. Co. Ltd
Zhejiang Yiwu Yongzhou Imp. & Exp. Co. Ltd
Zhong Shan Daheng Metal Products Co. Ltd
Zhong Shan Shen Neng Metals Products Co. Ltd
Zhucheng Jinming Metal Products Co. Ltd
Zhucheng Runfang Paper Co. Ltd
The People's Republic of China:
Polyethylene Retail Carrier Bags A-570-886 | 8/1/16-7/31/17
Crown Polyethylene Products (International) Ltd
Dongguan Nozawa Plastics Products Co., Ltd. and United Power Packaging, Ltd. (collectively Nozawa)
High Den Enterprises Ltd
Countervailing Duty Proceedings
Italy:
Certain Pasta ⁷ C-475-819 | 1/1/16-12/31/16
Antico Pastificio Morelli 1860 S.r.l
Republic of Korea:
Corrosion-Resistant Steel Products ⁸ C-580-879 | 11/6/15-12/31/16
Dongkuk Steel Mill Co., Ltd
Jeil Sanup Co., Ltd
Seil Steel Co., Ltd
Union Steel Manufacturing Co., Ltd
The People's Republic of China:
Certain Passenger Vehicle and Light Truck Tires C-570-017 | 1/1/16-12/31/16
Best Industries Ltd
BC Tyre Group Limited
Cooper (Kunshan) Tire Co., Ltd
Crown International Corporation
Dongying Zhongyi Rubber Co., Ltd
Hangzhou Yokohama Tire Co., Ltd
Hankook Tire China Co., Ltd
Hong Kong Tiancheng Investment & Trading Co., Limited
Hongtyre Group Co
Jiangsu Hankook Tire Co., Ltd
Jiangsu Sanhe Aluminum
Kenda Rubber (China) Co., Ltd
Koryo International Industrial Limited
Mayrun Tyre (Hong Kong) Limited
Qingdao Jinhaoyang International Co., Ltd
Qingdao Nama Industrial Co., Ltd
Qingdao Odyking Tyre Co., Ltd
Qingdao Sentury Tire Co., Ltd
Roadclaw Tyre (Hong Kong) Limited
Shandong Anchi Tyres Co., Ltd
Shandong Changfeng Tyres Co., Ltd
Shandong Changhong Rubber Technology Co., Ltd
Shandong Guofeng Rubber Plastics Co., Ltd
Shandong Haohua Tire Co., Ltd
Shandong Haolong Rubber Co., Ltd
Shandong Hengyu Science & Technology Co., Ltd
Shandong Linglong Tyre Co., Ltd
Shandong Longyue Rubber Co., Ltd
Shandong New Continent Tire Co., Ltd
Shandong Province Sanli Tire
Shandong Province Sanli Tire Manufactured Co., Ltd
Shandong Shuangwang Rubber Co., Ltd
Shandong Wanda Boto Tyre Co., Ltd
Shandong Yongsheng Rubber Group Co., Ltd
Shandong Zhongyi Rubber Co., Ltd
Shengtai Group Co., Ltd
Shouguang Firemax Tyre Co., Ltd
The Yokohama Rubber Company, Ltd
Tyrechamp Group Co., Limited
Winrun Tyre Co., Ltd
Zhaoqing Junhong Co., Ltd
Zhongce Rubber Group Company Limited
Suspension Agreements
None

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

⁴ In the notice of initiation for July anniversary cases, published in the Federal Register on September 13, 2017 (82 FR 42974), the Department incorrectly identified “Netherland, B.V.” and “Uttam Galva Steels” as two separate companies when it should have been listed as a single company: Uttam Galva Steels, Netherlands, B.V. The Department hereby corrects that initiation notice and is publishing the names of all companies for which requests for review were received for the POR.

⁵ In the initiation notice that published on September 13, 2017 (82 FR 42974) the Department inadvertently initiated a review of Welded Stainless Pressure Pipe from Socialist Republic of Vietnam for Mejonson Industrial Vietnam Co., Ltd. We did not intend to initiate a review of this company. This notice serves as a correction to the Initiation Notice.

⁶ The company listed above was misspelled in the initiation notice that published on September 13, 2017 (82 FR 42974). The correct spelling of the company name is listed in this notice.

⁷ In Initiation of Antidumping and Countervailing Duty Administrative Reviews, 82 FR 42074 (September 13, 2017), there was an error in the name of the company listed above. The company Antico Pastificio Morelli 1860 S.r.l. was incorrectly identified as Antico Pastificio Morelli 1870 S.r.l.. This notice serves as a correction to the initiation notice.

⁸ The companies listed below were either misspelled or inadvertently omitted in the initiation notice that published on September 13, 2017 (82 FR 42974). This notice serves as a correction to the initiation Notice.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in the Department's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

The Department's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁹ Parties are hereby reminded that revised certification requirements are in effect for company/government officials as well as their representatives. All segments of any antidumping duty or countervailing duty proceedings initiated on or after August 16, 2013, should use the formats for the revised certifications provided at the end of the Final Rule.¹⁰ The Department intends to reject factual submissions in any proceeding segments if the submitting party does not comply with applicable revised certification requirements.

⁹ See section 782(b) of the Act.

¹⁰ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under part 351 expires, or as otherwise specified by the Secretary. See 19 CFR 351.302. In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: October 10, 2017.
James Maeder,
Senior Director, performing the duties of Deputy Assistant Secretary for Antidumping and Countervailing Duty Operations.

[FR Doc. 2017-22327 Filed 10-13-17; 8:45 am]

BILLING CODE P